DEPARTMENT OF TRANSPORTATION

Maritime Administration

46 CFR Part 310

[Docket No. MARAD-2001-10056]

Service Obligation Reporting Requirements for United States Merchant Marine Academy and State Maritime School Graduates

AGENCY: Maritime Administration, Transportation.

ACTION: Final rule.

SUMMARY: The Maritime Administration (MARAD, we, our, or us) is amending the employment reporting requirements for United States Merchant Marine Academy (USMMA) graduates and graduates receiving student incentive payments at state maritime schools. The new rule will allow a USMMA or state maritime school graduate to submit his or her employment report 13 months following his or her graduation and each succeeding 12 months for a total of five consecutive years for USMMA graduates and three years for state maritime school graduates. The intended effect of this rulemaking is to provide all graduates (whether June or deferred) an equal amount of months to report employment under their service obligations rather than require a July 1 report date for all graduates including those having deferred graduation dates. This rule is noncontroversial and allows a timely as well as fair and efficient reporting criterion.

DATES: The effective date of this final rule is July 11, 2001.

FOR FURTHER INFORMATION CONTACT: Mr. Taylor E. Jones II, Office of Maritime Labor, Training, and Safety, (202) 366-5755. You may send mail to Mr. Jones at Maritime Administration, Office of Maritime Labor, Training, and Safety, MAR-250, Room 7302, 400 Seventh Street, SW., Washington, DC 20590.

SUPPLEMENTARY INFORMATION:

Background

The USMMA and state maritime schools require a midshipman/cadet who is a U.S. citizen and who enters the USMMA or a state maritime school in the student incentive payment (SIP) program after April 1, 1982 to sign a service obligation contract which obligates the midshipman/cadet to certain post graduate employment. Prior regulations required an employment reporting date of July 1 for all USMMA and state maritime school SIP graduates irrespective of whether the graduation date was in June or deferred. This presented a situation in which some graduates were allowed less time to submit an employment report under their service obligations. This final rule will allow a USMMA or state maritime school SIP graduate to submit his or her employment report 13 months following his or her graduation and each succeeding 12 months for a total of five consecutive years for USMMA graduates and for a total of three years for state maritime school SIP graduates. This will afford all graduates (whether June or deferred) an equal amount of months to report employment under their service obligations rather than require a July 1 report date for all graduates including those having deferred graduation dates.

This rulemaking does not require notice and comment because it is a rule of agency organization, procedure, and practice (5 U.S.C. 553(b)). Additionally, we find good cause under 5 U.S.C. 553(d) to make this final rule effective upon publication because this rule is noncontroversial and allows a timely as well as fair and efficient reporting criterion. An immediate effective date of this final rule will provide USMMA and state maritime school (SIP) graduates with equal reporting time irrespective of graduation date.

Regulatory Analyses and Notices

Executive Order 12866 and DOT Regulatory Policies and Procedures

This final rule is not considered a significant regulatory action under section 3(f) of Executive Order 12866 and, therefore, was not reviewed by the Office of Management and Budget. This final rule is not likely to result in an annual effect on the economy of $100 million or more. This final rule is also not significant under the Regulatory Policies and Procedures of the Department of Transportation (44 FR 11034; February 26, 1979). The economic impact, if any, should be so minimal that no further regulatory evaluation is necessary. This final rule is intended only to allow timely as well as fair and efficient employment reporting criterion.

Regulatory Flexibility Act

MARAD certifies that this final rule will not have a significant economic impact on a substantial number of small entities. This final rule only provides an equal reporting time for all USMMA and state maritime school graduates irrespective of graduation date.

Federalism

We analyzed this final rule in accordance with the principles and criteria contained in E.O. 13132 (“Federalism”) and have determined that it does not have sufficient federalism implications to warrant the preparation of a federalism summary impact statement. These regulations have no substantial effects on the States, or on the current Federal-State relationship, or on the current distribution of power and responsibilities among the various local officials. Therefore, consultation with State and local officials was not necessary.

Executive Order 13175

MARAD does not believe that this final rule will significantly or uniquely affect the communities of Indian tribal governments when analyzed under the principles and criteria contained in Executive Order 13175 (“Consultation and Coordination with Indian Tribal Governments”). Therefore, the funding and consultation requirements of this Executive Order would not apply.

Environmental Impact Statement

We have analyzed this final rule for purposes of compliance with the National Environmental Policy Act of 1969 (42 U.S.C. 4321 et seq.) and have concluded that under the categorical exclusions provision in section 4.05 of Maritime Administrative Order (“MAO”) 600-1, Procedures for Considering Environmental Impacts, 50 FR 11606 (March 22, 1985), the preparation of an Environmental Assessment and an Environmental Impact Statement, or a Finding of No Significant Impact for this final rule is not required. This final rule involves administrative and procedural regulations that have no environmental impact.

Unfunded Mandates Reform Act of 1995

This final rule does not impose an unfunded mandate under the Unfunded Mandates Reform Act of 1995. It does not result in costs of $100 million or more, in the aggregate, to any of the following: State, local, or Native American tribal governments, or the private sector. This final rule is the least burdensome alternative that achieves the objective of the rule.

Paperwork Reduction Act

This final rule contains information collection requirements covered by OMB approval number 2133-0509, under 5 CFR part 1320, pursuant to the Paperwork Reduction Act of 1995 (44 U.S.C. 3501 et seq.).

List of Subjects in 46 CFR Part 310

Grant programs-education, Reporting and recordkeeping requirements, Schools, and Seamen

Accordingly, for the reasons discussed in the preamble, 46 CFR part 310, is amended as follows:

1. The authority citation for part 310 continues to read as follows:

Authority: 46 App. U.S.C. 1295; 49 CFR 1.66.

2. In § 310.7, paragraph (b)(6) is revised to read as follows:

§ 310.7 Federal student subsistence allowances and student incentive payments.

* * * * *

(b) * * *

(6) Reporting requirement. (i) The schools must promptly submit copies of all resignation forms (containing the name, reason, address and telephone number) of juniors and seniors to the Supervisor, to be used for monitoring and enforcement purposes. Each graduate must submit an employment report form to the Maritime Administration (Supervisor) 13 months following his or her graduation and each succeeding 12 months for three years to: Academies Program Officer, Office of Maritime Labor and Training, Maritime Administration, NASSIF Building, 400 7th St., SW., Washington, DC 20590. In case a deferment has been granted to engage in a graduate course of study, semi-annual reports must be submitted for any extension of the three (3) year obligation period resulting from such deferments. The examples follow:

Example 1: Midshipman graduates on June 30, 2001. His first reporting date is July 1, 2002 and thereafter for 3 consecutive years.

Example 2: Midshipman has a deferred graduation on November 30, 2001. His first reporting date is December 1, 2002 and thereafter for 3 consecutive years.

(ii) The Maritime Administration will provide reporting forms. However, non-receipt of such form will not exempt a graduate from submitting employment information as required by this paragraph. The reporting form has been approved by the Office of Management and Budget (2133-0509).

3. Section 310.58 is amended by revising paragraph (d) as follows:

* * * * *

(d) Reporting requirements. (1) Each graduate must submit an employment report form 13 months following his or her graduation and each succeeding 12 months for a total of five consecutive years to: Academies Program Officer, Office of Maritime Labor and Training, Maritime Administration, NASSIF Building, 400 7th St., SW., Washington, DC 20590.

Example 1: Midshipman graduates on June 30, 2001. His first reporting date is July 1, 2002 and thereafter for 5 consecutive years.

Example 2: Midshipman has a deferred graduation on November 30, 2001. His first reporting date is December 1, 2002 and thereafter for 5 consecutive years.

(2) The Maritime Administration will provide reporting forms. However, non-receipt of such form will not exempt a graduate from submitting employment information as required by this paragraph. The reporting form has been approved by the Office of Management and Budget (2133-0509).

Dated: July 5, 2001.
By Order of the Acting Deputy Maritime Administrator.
Joel C. Richard,
Secretary, Maritime Administration.

[FR Doc. 01-17217 Filed 7-10-01; 8:45 am]

BILLING CODE 4910-81-P